DEPARTMENT OF TRANSPORTATION

Office of the Secretary

[Docket No. DOT-OST—2014-0011]

National Freight Advisory Committee: Notice of Public Webinar Meeting

ACTION: Notice of Public Meeting.

SUMMARY: The U.S. Department of Transportation (Department or DOT) announces a public meeting of its National Freight Advisory Committee (NFAC) to finalize recommendations for the Department to consider in its development of the National Freight Strategic Plan (Plan). This meeting is a continuation of the conversation from the meeting held on March 25-26 in Washington, DC.

Date, Time and Location: The meeting will take place online, as a webinar, on Tuesday, April 29, 2014, from 1:00 p.m. to 5:00 p.m., Eastern Standard Time.

FOR FURTHER INFORMATION CONTACT: Tretha Chromey, Designated Federal Officer at (202) 366-1999 or freight@dot.gov or visit the NFAC Web site at www.dot.gov/nfac.

Additional Information:

Background: The NFAC was established to provide advice and recommendations to the Secretary on matters related to freight transportation in the United States, including (1) implementation of the freight transportation requirements of the Moving Ahead for Progress in the 21st Century Act (MAP-21; Pub. L. 112-141); (2) establishment of the National Freight Network; (3) development of the Plan; (4) development of strategies to help States implement State Freight Advisory Committees and State Freight Plans; (5) development of measures of conditions and performance in freight transportation; (6) development of freight transportation investment, data, and planning tools; and (7) legislative recommendations. The NFAC operates as a discretionary committee under the authority of the DOT, established in accordance with the provisions of the Federal Advisory Committee Act (FACA), as amended, 5 U.S.C. App. 2. See DOT's NFAC Web site for additional information about the committee's activities at www.dot.gov/nfac.

MAP-21 directs the DOT to develop the Plan in consultation with State department of transportations and other appropriate stakeholders. The Plan must include:

(A) An assessment of the condition and performance of the national freight network.

(B) An identification of highway bottlenecks on the national freight network that create significant freight congestion problems, based on a quantitative methodology developed by the Secretary, which shall, at a minimum, include—

(i) information from the Freight Analysis Network of the Federal Highway Administration; and

(ii) to the maximum extent practicable, an estimate of the cost of addressing each bottleneck and any operational improvements that could be implemented.

(C) Forecasts of freight volumes for the 20-year period beginning in the year during which the Plan is issued.

(D) An identification of major trade gateways and national freight corridors that connect major population centers, trade gateways, and other major freight generators for current and forecasted traffic and freight volumes, the identification of which shall be revised, as appropriate, in subsequent plans.

(E) An assessment of statutory, regulatory, technological, institutional, financial, and other barriers to improved freight transportation performance (including opportunities for overcoming the barriers).

(F) An identification of routes providing access to energy exploration, development, installation, or production areas.

(G) Best practices for improving the performance of the national freight network.

(H) Best practices to mitigate the impacts of freight movement on communities.

(I) A process for addressing multistate projects and encouraging jurisdictions to collaborate.

(J) Strategies to improve freight intermodal connectivity.

The Plan serves as a document to outline a long-term strategy to implement the National freight policy. The goals of the National freight policy are related to economic competitiveness and efficiency; congestion; productivity; safety, security, and resilience of freight movement; infrastructure condition; use of advanced technology; performance, innovation, competition, and accountability in the operation and maintenance of the network; and environmental impacts. [23 U.S.C. 167]

On March 25-26, 2014 the NFAC members met to discuss proposed recommendations to the DOT on the following elements of the Plan:

• An assessment of statutory, regulatory, technological, institutional, financial, and other barriers to improved freight transportation performance (including opportunities for overcoming the barriers);

• Best practices for improving the performance of the national freight network; and

• Best practices to mitigate the impacts of freight movement on communities.

The NFAC members discussed approximately seventy (70) of the nearly ninety (90) proposed recommendations. At the conclusion of this meeting, it was agreed that each of the six subcommittees would revise their proposed recommendations, resubmit to the DFO who would compile and redistribute to the NFAC members, and the NFAC members would reconvene at the end of the month to finalize the recommendations.

Agenda: The agenda will include: (1) Welcome and introductions; (2) overview of the meeting format; (3) remarks from the NFAC Chair and Vice Chair; (4) NFAC members discussion on final recommendations; and (5) adjournment.

Public Participation: To view the webinar meeting, members of the public must pre-register online at https://connectdot.connectsolutions.com/NFAC042914/event/registration.html. Interested persons may link to the webinar registration portal through www.dot.gov/nafac no later than April 28, 2014. Upon registration, information will be sent to you at the email address you provide to enable you to connect to the webinar. Should problems arise with webinar registration, contact Kirse Kelly at ntchost@dot.gov or 703-235-1324. [This is not a toll-free telephone number.] Note: Members of the public will be able to listen to and view the webinar as observers.

Written comments: As the April 29, 2014 meeting is being conducted as a webinar and is a continuation of the conversation from the meeting held on March 25-26 where public comment was taken, the Chair has determined that public comment will be accepted in writing only. Members of the public who wish to submit written comments for consideration by the Committee at this meeting must email freight@dot.gov or send them to Ms. Tretha Chromey, Designated Federal Officer, National Freight Advisory Committee, 1200 New Jersey Avenue SE., W82-320, Washington, DC 20590 by April 22, 2014 to provide sufficient time for review. All other comments may be received at any time before or after the meeting.

Dated: April 10, 2014.
Tretha Chromey,
Designated Federal Officer.

[FR Doc. 2014-08604 Filed 4-15-14; 8:45 am]

BILLING CODE 4910-9X-P